DEPARTMENT OF THE INTERIOR

Bureau of Land Management

[CA-170-0777-XG]

Notice of Public Meeting: Central California Resource Advisory Council

SUMMARY: In accordance with the Federal Land and Policy Management Act of 1976 (FLPMA), and the Federal Advisory Committee Act of 1972 (FACA), the U.S. Department of the Interior, Bureau of Land Management (BLM) Central California Resource Advisory Council (RAC) will meet as indicated below.

DATES: The meeting will be held Friday, June 4 and Saturday, June 5, 2004, in Bridgeport, California. On Friday, June 4, the meeting begins at 8 a.m. at the Hunewill Ranch, 1110 Hunewill Ranch Road. From U.S. Highway 395 in Bridgeport, proceed four miles southwest on Twin Lakes Road to Hunewill Ranch Road. Proceed one mile on Hunewill Ranch Road to Hunewill Ranch. At 1:30 p.m. on Friday, June 4, a public comment period will be held at the Memorial Hall, 73 North School Street, Bridgeport. A field tour of the public lands in the Bodie Hills will commence at 3 p.m., following the public comment period. On Saturday, June 5, the meeting begins at 8 a.m. at the Hunewill Ranch.

FOR FURTHER INFORMATION CONTACT: Mark Gish, BLM Bishop Field Office, 351 Pacu Lane, Suite 100, Bishop, CA 93514, (760) 872-5000.

SUPPLEMENTARY INFORMATION: The 12-member council advises the Secretary of the Interior, through the BLM, on a variety of planning and management issues associated with public land management in central California. At this meeting, agenda topics will include discussions of the abandoned mine lands program on BLM managed lands in central California, regional planning efforts, land conservation programs, sage grouse conservation as well as recreation, grazing, cultural resources, fire management, land access, and wilderness issues. The RAC members will also hear status reports from the Bakersfield, Bishop, Folsom, and Hollister field office managers. All meetings are open to the public. Members of the public may present written comments to the council. Each formal council meeting allocates time for oral public comments. Depending on the number of persons wishing to speak and the time available, time for individual comments may be limited. Members of the public are welcome on field tours but they must provide for their own transportation and sustenance. Individuals who plan to attend and need special assistance, such as sign language interpretation and other reasonable accommodations should contact the BLM as provided above.

Dated: April 23, 2004.
Bill Dunkelberger,
Field Office Manager, Bishop Field Office.

[FR Doc. 04-10143 Filed 5-4-04; 8:45 am]

BILLING CODE 4310-40-P